DEPARTMENT OF THE INTERIOR

Bureau of Land Management

[100% to CO-956-1420-BJ-0000-241A]

Colorado: Filing of Plats of Survey

November 17, 2004.

SUMMARY: The plats of survey of the following described land will be officially filed in the Colorado State Office, Bureau of Land Management, Lakewood, Colorado, effective 10 a.m., November 17, 2004. All inquiries should be sent to the Colorado State Office, Bureau of Land Management, 2850 Youngfield Street, Lakewood, Colorado 80215-7093.

The plat, of the entire record, representing the metes-and-bounds survey in section 24, Township 41 North, Range 2 East, New Mexico Principal Meridian, Group 1367, Colorado, was accepted November 10, 2004.

This survey and plat was requested by the U.S. Forest Service, Rio Grande National Forest, to facilitate a land exchange, and for administrative and management purposes.

Randall M. Zanon,
Chief Cadastral Surveyor for Colorado.

[FR Doc. 04-26143 Filed 11-24-04; 8:45 am]

BILLING CODE 4310-JB-P